DEPARTMENT OF THE INTERIOR

National Park Service

[NPS—OIA—WASO—0112—DTS:9376; 0050-673]

U.S. Nominations to the World Heritage List; 15-Day Notice of Opportunity for Public Comment

AGENCY: National Park Service, Department of the Interior.

ACTION: Notice and request for comments.

SUMMARY: This is a First Notice for the public to comment on the next potential U.S. nominations from the U.S. World Heritage Tentative List to the UNESCO World Heritage List, and on possible additions to the Tentative List. This notice complies with Sec. 73.7(c) of the World Heritage Program regulations (36 CFR part 73).

The U.S. World Heritage Tentative List (formerly referred to as the Indicative Inventory) appears at the end of this notice. The current Tentative List was transmitted to the UNESCO World Heritage Centre on January 24, 2008 and includes properties that appear to qualify for World Heritage status and which may be considered for nomination by the United States to the World Heritage List. Any property nominated to the World Heritage List must have been on the Tentative List for at least a year prior to its nomination, according to the Operational Guidelines of the World Heritage Committee.

On Thursday, July 14, 2011, the U.S. Department of the Interior announced that it had requested the preparation of draft World Heritage nominations for two properties or groups of properties on the Tentative List: The Frank Lloyd Wright Buildings and Poverty Point State Historic Site and National Monument. These draft nominations are currently in preparation.

The United States Department of the Interior is now considering whether to initiate the preparation of draft nominations for any of the remaining properties on the Tentative List to the World Heritage List. The Department will consider both public comments received during this comment period and the advice of the Federal Interagency Panel for World Heritage (the Panel) in making a final decision on any future nominations. The United States is currently prohibited by law from providing any funding to UNESCO, including UNESCO and World Heritage member dues. The Panel will consider possible implications of this status in making its recommendation on future nominations.

Comments may also be made on suggestions for additions to the Tentative List, although the Department is not required to make additions to the List. All previous suggestions made during the public comment period held from December 14, 2010-January 14, 2011, as well as those made since that time, are still on file for consideration and should not be resubmitted at this time.

DATES: Comments will be accepted on or before fifteen days from the date of publication of this notice in the Federal Register.

If additional site(s) are selected by the Department for nomination, public notice will be made of the decision. The site's owner(s) will be responsible, in cooperation with the National Park Service, for preparing the draft nomination in the nomination Format required by the World Heritage Committee and for gathering documentation in support of it. Legal protective measures must be in place before a property may be nominated. Any such nominations must be received from the preparers by the National Park Service in substantially complete draft form by a date on or near July 15, 2013. Such draft nominations will be reviewed, revisions requested if necessary, and, if considered by the Department to be technically and substantively adequate, as well as in consideration of other relevant factors, may be provided to the World Heritage Centre for technical review no later than September 30, 2013. The Centre would then provide comments by approximately November 15, 2013, with final submittal to the World Heritage Centre by the Department of the Interior through the Department of State no later than January 30, 2014. Any nomination submitted by that date will be considered by the World Heritage Committee at its meeting in the summer of 2015. The Committee, composed of representatives of 21 nations elected as the governing body of the World Heritage Convention, makes the final decisions on which nominations to accept on the World Heritage List. If a nomination cannot be completed in accordance with this timeline, work may continue on the nomination for possible submission to UNESCO in a subsequent year.

ADDRESSES: Please provide all comments directly to Jonathan Putnam, Office of International Affairs, National Park Service, 1201 Eye Street NW., (0050). Washington, DC 20005 or by Email to: jonathan_putnam@nps.gov. Phone: 202-354-1809. Fax 202-371-1446. All comments will be a matter of public record. Before including an address, phone number, email address, or other personal identifying information in a comment, members of the public should be aware that the entire comment—including personal identifying information—may be made public at any time. While commenters can request that personal identifying information be withheld from public review, it may not be possible to comply with this request.

Comments on whether to nominate any of the properties on the Tentative List must address:

(i) How well the property(ies) meet the World Heritage nomination criteria, requirements for authenticity, integrity, legal protection and management. Information on these criteria and requirements can be found on the National Park Service Office of International Affairs Web site http://www.nps.gov/oia/topics/worldheritage/worldheritage.htm under “General Information”; and

(ii) The readiness and ability of the property owner(s) to prepare a satisfactory nomination document according to the timeline outlined above.

Only the 10 properties or groups of properties included in U.S. Tentative List and not previously selected to prepare nominations are eligible to be considered for nomination by the United States to the World Heritage List at this time. One property on the List, Papahanaumokuakea Marine National Monument, was nominated in 2009 and listed as a World Heritage Site in 2010. Brief descriptions of the properties appear on the Web site just noted.

Suggestions for additions to the Tentative List not previously submitted must address:

(i) How well the property(ies) meet the World Heritage nomination criteria, requirements for authenticity, integrity, legal protection and management. Information on these criteria and requirements can be found on the National Park Service Office of International Affairs Web site http://www.nps.gov/oia/topics/worldheritage/worldheritage.htm under “General Information;” and

(ii) The U.S. legal prerequisites that include the agreement of all property owners to the nomination of their property, an official determination that the property is nationally significant (such as by designation as a National Historic or National Natural Landmark), and effective legal protection.

All previous suggestions for the Tentative List made during the public comment period held from December 14, 2010-January 14, 2011, as well as those made since that time, are still on file for consideration and should not be resubmitted at this time.

All public comments will be summarized and provided to Department of the Interior officials, who will obtain the advice of the Federal Interagency Panel for World Heritage before making any selection of properties for World Heritage nomination. The selection may include the following considerations:

(i) How well the particular type of property (i.e., theme or region) is represented on the World Heritage List in both the United States and other nations;

(ii) The balance between cultural and natural properties already on the List and those under consideration;

(iii) Opportunities that the property affords for public visitation, interpretation, and education;

(iv) Potential threats to the property's integrity or its current state of preservation;

(v) Likelihood of being able to complete a satisfactory nomination according to the timeline described above; and

(vi) Other relevant factors, including the possible implications of non-payment of U.S. dues to UNESCO or the World Heritage Fund.

FOR FURTHER INFORMATION CONTACT: Jonathan Putnam, 202-354-1809 or April Brooks, 202-354-1808. General information about U.S. participation in the World Heritage Program and the process used to develop the Tentative List is posted on the Office of International Affairs Web site at: http://www.nps.gov/oia/topics/worldheritage/worldheritage.htm.

To request a paper copy of the U.S. Tentative List, please contact April Brooks, Office of International Affairs, National Park Service, 1201 Eye Street, NW (0050) Washington DC 20005. Email: april_brooks@nps.gov.

For the World Heritage nomination Format, see the World Heritage Centre Web site at http://whc.unesco.org/en/nominations.

SUPPLEMENTARY INFORMATION:

Background

The World Heritage List is an international list of cultural and natural properties nominated by the signatories to the World Heritage Convention (1972). The United States was the prime architect of the Convention, an international treaty for the preservation of natural and cultural heritage sites of global significance proposed by President Richard M. Nixon in 1972, and the U.S. was the first nation to ratify it. The United States has served several terms on the elected 21-nation World Heritage Committee, but is not currently on the Committee. There are 936 sites in 153 of the 188 signatory countries. Currently there are 21 World Heritage Sites in the United States.

U.S. participation and the roles of the Department of the Interior and the National Park Service are authorized by Title IV of the Historic Preservation Act Amendments of 1980 and conducted in accordance with 36 CFR part 73—World Heritage Convention.

The National Park Service serves as the principal technical agency for the U.S. Government to the Convention and manages all or parts of 17 of the 21 U.S. World Heritage Sites currently listed, including Yellowstone National Park, the Everglades, and the Statue of Liberty.

A Tentative List is a national list of natural and cultural properties appearing to meet the World Heritage Committee eligibility criteria for nomination to the World Heritage List. It is a list of candidate sites which a country intends to consider for nomination within a given time period. A country cannot nominate a property unless it has been on its Tentative List for a minimum of a year. Countries also are limited to nominating no more than two sites in any given year. If two are nominated, at least one must be a natural site or a cultural landscape.

Neither inclusion in the Tentative List nor inscription as a World Heritage Site imposes legal restrictions on owners or neighbors of sites, nor does it give the United Nations any management authority or ownership rights in U.S. World Heritage Sites, which continue to be subject only to U.S. laws. Inclusion in the Tentative List merely indicates that the property may be further examined for possible World Heritage nomination in the future.

The World Heritage Committee's Operational Guidelines ask participating nations to provide Tentative Lists, which aid in evaluating properties for the World Heritage List on a comparative international basis and help the Committee to schedule its work over the long term.

In order to guide the U.S. World Heritage Program effectively and in a timely manner, NPS prepared and submitted (through the Secretary of the Interior and the Secretary of State) to the World Heritage Centre of UNESCO on January 24, 2008, the previously referenced Tentative List of properties that appear to meet the criteria for nomination. Information on how the Tentative List was developed is available on the Office of International Affairs Web site at http://www.nps.gov/oia/topics/worldheritage/worldheritage.htm.

In order to be included, a proposed site must meet several U.S. prerequisites in addition to appearing to meet the stringent World Heritage criteria of international importance. The U.S. prerequisites include the written agreement of all property owners to the nomination of their property, a prior official determination that the property is nationally important (such as by designation as a National Historic or National Natural Landmark), and effective legal protection. Support from stakeholders, including elected officials, is also considered important.

U.S. World Heritage Tentative List Cultural Sites (9)

Civil Rights Movement Sites, Alabama

Dexter Avenue King Memorial Baptist Church, Montgomery

Bethel Baptist Church, Birmingham

16th Street Baptist Church, Birmingham

Dayton Aviation Sites, Ohio

Dayton Aviation Heritage National Historical Park, including:

—Huffman Prairie (part of Wright-Patterson Air Force Base)

—Wright Cycle Company and Wright & Wright Printing, Dayton

—Wright Hall (housing the Wright Flyer III), Dayton

—Hawthorn Hill, Dayton

Hopewell Ceremonial Earthworks, Ohio

Fort Ancient State Memorial, Warren County

Hopewell Culture National Historical Park, near Chillicothe

Newark Earthworks State Historic Site, Newark and Heath, including:

—Wright Earthworks

—The Octagon Earthworks

—Great Circle Earthworks

Jefferson (Thomas) Buildings, Virginia

Poplar Forest, Bedford County

Virginia State Capitol, Richmond

(Proposed jointly as an extension to the World Heritage listing of Monticello and the University of Virginia Historic District)

Mount Vernon, Virginia

Poverty Point National Monument and State Historic Site, Louisiana [Selected To Prepare a Nomination in 2011; Draft Nomination in Preparation]

San Antonio Franciscan Missions, Texas

Mission San Antonio de Valero (The Alamo)

San Antonio Missions National Historical Park, including:

—Mission Concepcion

—Mission San Jose

—Mission San Juan

—Mission Espada (including Rancho de las Cabras)

Serpent Mound, Ohio

Wright (Frank Lloyd) Buildings [Selected To Prepare a Nomination in 2011; Draft Nomination in Preparation]

Taliesin West, Scottsdale, Arizona

Hollyhock House, Los Angeles, California

Marin County Civic Center, San Rafael, California

Frederick C. Robie House, Chicago, Illinois

Unity Temple, Oak Park, Illinois

Solomon R. Guggenheim Museum, New York, New York

Price Tower, Bartlesville, Oklahoma

Fallingwater, Mill Run, Pennsylvania

S. C. Johnson and Son, Inc., Administration Building and Research Tower, Racine, Wisconsin

Taliesin, Spring Green, Wisconsin

Herbert and Katherine Jacobs House, Madison, Wisconsin

Natural Sites (4)

Fagatele Bay National Marine Sanctuary, American Samoa

Okefenokee National Wildlife Refuge, Georgia

Petrified Forest National Park, Arizona

White Sands National Monument, New Mexico

Authority: 16 U.S.C. 470 a-1, a-2, d; 36 CFR 73.

Dated: February 10, 2012.
Rachel Jacobson,
Acting Assistant Secretary for Fish and Wildlife and Parks.

[FR Doc. 2012-5191 Filed 3-2-12; 8:45 am]

BILLING CODE 4312-52-P